DEPARTMENT OF DEFENSE

Office of the Secretary

[Docket ID: DOD-2025-OS-0738]

Privacy Act of 1974; System of Records

AGENCY: Department of Defense (DoD).

ACTION: Notice of modified system of records.

SUMMARY: Pursuant to the Privacy Act of 1974, as amended, the DoD is modifying 18 System of Records Notices (SORNs) to include a new routine use that permits disclosure of records to the Department of the Treasury for the purpose of identifying, preventing, or recouping improper payments, consistent with applicable law. This modification notice describes the routine use and identifies the affected systems. This modification notice does not alter system locations, system managers, categories of individuals or records maintained in the systems, nor does it change the relevant authorities or methods of collection.

DATES: This system of records notice is effective upon publication; however, comments on the Routine Uses will be accepted on or before December 26, 2025. The Routine Use is effective at the close of the comment period, unless comments have been received from interested members of the public that require modification and republication of the notice.

ADDRESSES: You may submit comments, identified by docket number and title, by either of the following methods:

* Federal Rulemaking Portal: https://www.regulations.gov. Follow the instructions for submitting comments.

* Mail: Department of Defense, Office of the Director of Administration and Management, Privacy, Civil Liberties, and Transparency Directorate, Regulatory Division, 4800 Mark Center Drive, Attn: Mailbox #24, Suite 05F16, Alexandria, VA 22350-1700.

Instructions: All submissions must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Chief, Privacy and Civil Liberties Division, Privacy, Civil Liberties, and Transparency Directorate, Office of the Director of Administration and Management, Department of Defense, 4800 Mark Center Drive, Mailbox #24, Suite 05F16, Alexandria, VA 22350-1700, osd.mc-alex.oatsd-pclt.mbx.pcld-sorn@mail.mil, (703) 571-0070.

SUPPLEMENTARY INFORMATION:

I. Background

In accordance with OMB Memorandum M-25-32, the DoD has conducted a review of its Privacy Act SORNs to ensure alignment with E.O. 14249 and Federal efforts to reduce improper payments and strengthen program integrity. As a result of this review, the agency has identified 18 SORNs requiring modification to support disclosures to the Department of Treasury's Do Not Pay Working System. The change involves adding a new routine use to each of the identified SORNs. This routine use will authorize the disclosure of information relevant to verifying payment and award eligibility through the Do Not Pay Working System. The purpose of this modification notice is to enhance the agency's ability to prevent improper payments, comply with government-wide financial integrity mandates, and improve operational efficiency in determining eligibility for Federal funds. This modification notice does not alter the categories of individuals or records maintained in the systems, nor does it change the authority or method of collection. Instead, it strengthens the agency's data sharing posture in support of transparency and accountability.

DoD SORNs are published in the Federal Register and are available from the address in FOR FURTHER INFORMATION CONTACT or at the Privacy and Civil Liberties Division website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or alien lawfully admitted for permanent residence.

In accordance with 5 U.S.C. 552a(r) and Office of Management and Budget (OMB) Circular No. A-108, DoD has provided a report of this consolidated notice to OMB and Congress.

Dated: November 21, 2025.
Stephanie J. Bost,
Alternate OSD Federal Register Liaison Officer, Department of Defense.

SYSTEM NAMES AND NUMBERS:

DoD Patron Authorization, Retail, And Service Activities | DoD-0018.
Defense Enterprise Accounting and Management System (DEAMS) | F065 AFMC A.
Corps of Engineers Management Information System Files | A0037-2-1 CE.
Marine Corps Manpower Management Information System Records | M01040-3.
Navy Standard Integrated Personnel System (NSIPS) | N07220-1.
Defense Travel System (DTS) | DHRA 08 DoD.
Integrated Accounts Payable Systems (IAPS) | T7225.
Computerized Accounts Payable System (CAPS) | T7225a.
Integrated Automated Travel System (IATS) | T7333.
Defense Civilian Pay System (DCPS) | T7335.
Defense Joint Military Pay System-Active Component | T7340.
Defense Joint Military Pay System-Reserve Component | T7344.
Defense Military Retiree an Annuity Pay Systems Records | T7347b.
My Invoice System | T7801.
Enterprise Business System (EBS) | S700.30.
Defense Agencies Initiative | S890.11.
Medical/Dental Claim History Files | EDTMA 04.
Defense Transportation System (DTS) Records | FTRANSCOM 01, DoD.

SECURITY CLASSIFICATION:

Unclassified.

SYSTEMS LOCATION:

This modification notice does not alter the system location information for each of the listed systems.

SYSTEMS MANAGERS:

This modification notice does not alter the system manager information for each of the listed systems. For details regarding the system manager, please refer to the most recently published full system of records notice for each system.

* * * * *

ROUTINE USES OF RECORDS MAINTAINED IN THE SYSTEM, INCLUDING CATEGORIES OF USERS AND PURPOSES OF SUCH USES:

Each of these systems will be updated to include the following routine use:

“To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.”

* * * * *

HISTORY:

System name | System No. | Publication date
DoD Patron Authorization, Retail, And Service Activities | DoD-0018 | March 30, 2023; 88 FR 19103-19106.
Defense Enterprise Accounting and Management System (DEAMS) | F065 AFMC A | August 07, 2009; 74 39673-39674.
Corps Of Engineers Management Information System Files | A0037-2-1 CE | February 22, 1993; 58 FR 10002.
Marine Corps Manpower Management Information System Records | M01040-3 | April 29, 2010; 75 FR 22570-22573.
Navy Standard Integrated Personnel System (NSIPS) | N07220-1 | November 29, 2012; 77 FR 71185-71186; December 16, 2010; 75 FR 78688-78690.
Defense Travel System (DTS) | DHRA 08 DoD | March 27, 2020; 85 FR 17319-17322.
Integrated Accounts Payable Systems (IAPS) | T7225 | May 04, 2007; 72 FR 25271-25272.
Computerized Accounts Payable System (CAPS) | T7225a | November 14, 2007; 72 FR 64057-64058.
Integrated Automated Travel System (IATS) | T7333 | April 23, 2010; 75 FR 21248-21250.
Defense Civilian Pay System (DCPS) | T7335 | March 13, 2014; 79 FR 14241-14242.
Defense Joint Military Pay System-Active Component | T7340 | September 25, 2014; 79 FR 57541-57542; March 5, 2013; 78 FR 14283-14284; March 21, 2006; 71 FR 14179-14182.
Defense Joint Military Pay System-Reserve Component | T7344 | March 05, 2013; 78 FR 14281-14282; March 21, 2006; 71 FR 14182-14186.
Defense Military Retiree an Annuity Pay Systems Records | T7347b | January 07, 2009; 74 FR 696-698.
myInvoice System | T7801 | October 12, 2006, 71 FR 60121-60122.
Enterprise Business System (EBS) | S700.30 | November 25, 2011; 76 FR 72691-72692.
Defense Agencies Initiative | S890.11 | June 03, 2019; 84 FR 25537-25540.
Medical/Dental Claim History Files | EDTMA 04 | October 27, 2015; 80 FR 65720; March 29, 2006; 71 FR 15702-15704.
DoD, Defense Transportation System (DTS) Records | FTRANSCOM 01 | September 26, 2014; 79 FR 57893—57894.

[FR Doc. 2025-21170 Filed 11-25-25; 8:45 am]

BILLING CODE 6001-FR-P